DEPARTMENT OF HEALTH AND HUMAN SERVICES

National Institutes of Health

National Institute of Environmental Health Sciences; Vietnamese Studies Ad Hoc Advisory Meeting

ACTION: Notice of public meeting.

SUMMARY: This notice announces a public meeting to be convened by the National Institute of Environmental Health Sciences (NIEHS) to discuss and receive input on scientific issues relating to possible studies in Vietnam relating to health and environmental aspects of Agent Orange exposure. Agent Orange was used as a defoliant during the Vietnam War and included, as contaminants, dioxin and related compounds. The format for the meeting is being developed; however, it is anticipated that (1) A panel of invited experts will identify, in public session, issues related to conducting studies in Vietnam and (2) time will be reserved for attendees to contribute issues and recommendations and/or comment on the panel's discussions.

The meeting will be held on Friday, August 18, 2000, from approximately 10 am to 5 pm at the Hyatt Regency Monterey Resort and Conference Center, One Golf Course Drive, Monterey, California, USA 93940, phone (831) 372-1234. The date and location of the meeting coincide with the 20th International Symposium on Halogenated Environmental Organic Pollutants and POP's, an annual conference of dioxin researchers, to take advantage of the attendance at that meeting of dioxin experts and the public interested in issues related to dioxin and Agent Orange.

SUPPLEMENTARY INFORMATION: The FY2000 Appropriations Conference Report included the following language: “* * * NIEHS is strongly urged to conduct research on the health and environmental aspects of agent orange and dioxin in Southeast Asia, in particular, Vietnam provided that the Vietnamese government supports collaborative research between U.S. and Vietnamese scientists * * *” The Vietnamese government has agreed to discuss these issues with the NIEHS at a time and place to be decided. Therefore, the NIEHS is seeking advice on the feasibility of conducting studies in Vietnam to learn more about the health and environmental aspects of Agent Orange and dioxin in Vietnam resulting from environmental exposure to Agent Orange. The Institute is convening the ad hoc public meeting on August 18 to solicit advice from scientific experts and other stakeholders and to learn what scientific issues and concerns would be associated with such studies. The NIEHS will use this information as it develops a dialog with the Vietnamese government and Vietnamese researchers about possible research agendas.

FOR FURTHER INFORMATION CONTACT: NTP Liaison and Scientific Review Office, NIEHS, PO Box 12233, A3-01, Research Triangle Park, NC 27709, phone (919) 541-0530 or email: liaison@starbase.niehs.nih.gov

Dated: July 19, 2000.
Kenneth Olden,
Director, NIEHS/NTP.

[FR Doc. 00-19149 Filed 7-27-00; 8:45 am]

BILLING CODE 4140-01-P